DEPARTMENT OF AGRICULTURE

Submission for OMB Review; Comment Request

August 29, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Renewable Energy System Feasibility Study Grant Assistance under the Rural Energy for America Program (REAP).

OMB Control Number: 0570-0061.

Summary of Collection: This grant program, authorized under the 2008 Farm Bill (Pub. L. 110-246, Food, Conservation, and Energy Act of 2008), makes grants to eligible entities to conduct feasibility studies for renewable energy development systems that are eligible for financial assistance under the REAP. Agricultural producers and rural small businesses would be required to pay at least 75 percent of the cost of the feasibility study.

Need and Use of the Information: The agency will collect the information from applicants using a variety of forms and an application package that includes specific information about the applicant and the proposed feasibility study (e.g., the renewable energy project for which the study will be conducted; matching funds), statements of intent to seek REAP funds for the renewable energy system, and the experience of the entity that will be conducting the feasibility study. The Agency will use this information to determine applicant and project eligibility to ensure that funds are used for authorized purposes and to help ensure that an acceptable feasibility study is conducted under the grant.

Description of Respondents: Business or other for-profit; farms.

Number of Respondents: 354.

Frequency of Responses: Reporting: Annually and on occasion.

Total Burden Hours: 4,811.

Charlene Parker,
Departmental Information Collection Clearance Officer.

[FR Doc. 2012-21788 Filed 9-4-12; 8:45 am]

BILLING CODE 3410-XT-P